DEPARTMENT OF HOMELAND SECURITY

Federal Emergency Management Agency

[Docket ID FEMA-2020-0002; Internal Agency Docket No. FEMA-B-2040]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Houston | City of Dothan (19-04-4944P). | The Honorable Mark Saliba, Mayor, City of Dothan, P.O. Box 2128, Dothan, AL 36303. | Engineering Services Department, P.O. Box 2128, Dothan, AL 36303. | https://msc.fema.gov/portal/advanceSearch. | Jul. 15, 2020 | 010104
Mobile | Unincorporated areas of Mobile County (19-04-4767P). | The Honorable Connie Hudson, President, Mobile County Commission, 205 Government Street, Mobile, AL 36644. | Mobile County Department of Public Works, 205 Government Street, Mobile, AL 36644. | https://msc.fema.gov/portal/advanceSearch. | Jun. 16, 2020 | 015008
Montgomery | Town of Pike Road (19-04-1913P). | The Honorable Gordon Stone, Mayor, Town of Pike Road, 9575 Vaughn Road, Pike Road, AL 36064. | City Hall, 9575 Vaughn Road, Pike Road, AL 36064. | https://msc.fema.gov/portal/advanceSearch. | Jul. 6, 2020 | 010433
Montgomery | Unincorporated areas of Montgomery County (19-04-1913P). | The Honorable Elton Dean, Chairman, Montgomery County Board of Commissioners, P.O. Box 1667, Montgomery, AL 36104. | Montgomery County Engineering Department, 25 Washington Avenue, Montgomery, AL 36104. | https://msc.fema.gov/portal/advanceSearch. | Jul. 6, 2020 | 010278
Colorado:
Arapahoe | City of Aurora (19-08-0731P). | The Honorable Mike Coffman, Mayor, City of Aurora, 15151 East Alameda Parkway, Aurora, CO 80012. | Public Works Department, 15151 East Alameda Parkway, Aurora, CO 80012. | https://msc.fema.gov/portal/advanceSearch. | Oct. 2, 2020 | 080002
Boulder | City of Longmont (19-08-1079P). | The Honorable Brian Bagley, Mayor, City of Longmont, 350 Kimbark Street, Longmont, CO 80501. | Public Works and Natural Resources Department, 350 Kimbark Street, Longmont, CO 80501. | https://msc.fema.gov/portal/advanceSearch. | Sep. 17, 2020 | 080027
Boulder | Unincorporated areas of Boulder County (19-08-1079P). | The Honorable Deb Gardner, Chair, Boulder County Board of Commissioners, P.O. Box 471, Boulder, CO 80306. | Boulder County Transportation Department, 2525 13th Street, Suite 203, Boulder, CO 80304. | https://msc.fema.gov/portal/advanceSearch. | Sep. 17, 2020 | 080023
Broomfield | City and County of Broomfield (19-08-0374P). | The Honorable Patrick Quinn, Mayor, City and County of Broomfield, 1 DesCombes Drive, Broomfield, CO 80020. | Engineering Department, 1 DesCombes Drive, Broomfield, CO 80020. | https://msc.fema.gov/portal/advanceSearch. | Sep. 25, 2020 | 085073
Denver | City and County of Denver (19-08-0731P). | The Honorable Michael B. Hancock, Mayor, City and County of Denver, 1437 North Bannock Street, Room 350, Denver, CO 80202. | Department of Public Works, 201 West Colfax Avenue, Denver, CO 80202. | https://msc.fema.gov/portal/advanceSearch. | Oct. 2, 2020 | 080046
El Paso | City of Colorado Springs (19-08-0754P). | The Honorable John Suthers, Mayor, City of Colorado Springs, 30 South Nevada Avenue, Suite 601, Colorado Springs, CO 80903. | Pikes Peak Regional Development Center, 2880 International Circle, Colorado Springs, CO 80910. | https://msc.fema.gov/portal/advanceSearch. | Oct. 13, 2020 | 080060
El Paso | City of Fountain (19-08-0957P). | The Honorable Gabriel Ortega, Mayor, City of Fountain, 116 South Main Street, Fountain, CO 80817. | Pikes Peak Regional Development Center, 2880 International Circle, Colorado Springs, CO 80910. | https://msc.fema.gov/portal/advanceSearch. | Oct. 13, 2020 | 080061
El Paso | Town of Monument (20-08-0011P). | The Honorable Don Wilson, Mayor, Town of Monument, 645 Beacon Lite Road, Monument, CO 80132. | Pikes Peak Regional Development Center, 2880 International Circle, Colorado Springs, CO 80910. | https://msc.fema.gov/portal/advanceSearch. | Oct. 14, 2020 | 080064
El Paso | Unincorporated areas of El Paso County (19-08-0957P). | The Honorable Mark Waller, Chairman, El Paso County Board of Commissioners, 200 South Cascade Avenue, Suite 100, Colorado Springs, CO 80903. | Pikes Peak Regional Development Center, 2880 International Circle, Colorado Springs, CO 80910. | https://msc.fema.gov/portal/advanceSearch. | Oct. 13, 2020 | 080059
El Paso | Unincorporated areas of El Paso County (20-08-0011P). | The Honorable Mark Waller, Chairman, El Paso County Board of Commissioners, 200 South Cascade Avenue, Suite 100, Colorado Springs, CO 80903. | Pikes Peak Regional Development Center, 2880 International Circle, Colorado Springs, CO 80910. | https://msc.fema.gov/portal/advanceSearch. | Oct. 14, 2020 | 080059
Jefferson | City of Westminster (19-08-0374P). | The Honorable Herb Atchison, Mayor, City of Westminster, 4880 West 92nd Avenue, Westminster, CO 80031. | City Hall, 4880 West 92nd Avenue, Westminster, CO 80031. | https://msc.fema.gov/portal/advanceSearch. | Sep. 25, 2020 | 080008
Florida:
Lee | City of Sanibel (20-04-3626P). | The Honorable Kevin Ruane, Mayor, City of Sanibel, 800 Dunlop Road, Sanibel, FL 33957. | Community Services Department, 800 Dunlop Road, Sanibel, FL 33957. | https://msc.fema.gov/portal/advanceSearch. | Sep. 29, 2020 | 120402
Miami-Dade | City of Miami (20-04-1579P). | The Honorable Francis X. Suarez, Mayor, City of Miami, 3500 Pan American Drive, Miami, FL 33130. | Building Department, 444 Southwest 2nd Street, 4th Floor, Miami, FL 33130. | https://msc.fema.gov/portal/advanceSearch. | Sep. 24, 2020 | 120650
Pasco | Unincorporated areas of Pasco County (19-04-4754P). | Mr. Dan Biles, Pasco County Administrator, 8731 Citizens Drive, New Port Richey, FL 34654. | Pasco County Administration Building, 8731 Citizens Drive, New Port Richey, FL 34654. | https://msc.fema.gov/portal/advanceSearch. | Sep. 17, 2020 | 120230
Sarasota | City of Sarasota (20-04-2087P). | The Honorable Jennifer Ahearn-Koch, Mayor, City of Sarasota, 1565 1st Street, Room 101, Sarasota, FL 34236. | Development Services Department, 1565 1st Street, Sarasota, FL 34236. | https://msc.fema.gov/portal/advanceSearch. | Sep. 24, 2020 | 125150
Sarasota | Unincorporated areas of Sarasota (20-04-1981P). | The Honorable Charles D. Hines, Chairman, Sarasota County Board of Commissioners, 1660 Ringling Boulevard, Sarasota, FL 34236. | Sarasota County Planning and Development Services Department, 1001 Sarasota Center Boulevard, Sarasota, FL 34240. | https://msc.fema.gov/portal/advanceSearch. | Sep. 21, 2020 | 125144
Sarasota | Unincorporated areas of Sarasota (20-04-1982P). | The Honorable Charles D. Hines, Chairman, Sarasota County Board of Commissioners, 1660 Ringling Boulevard, Sarasota, FL 34236. | Sarasota County Planning and Development Services Department, 1001 Sarasota Center Boulevard, Sarasota, FL 34240. | https://msc.fema.gov/portal/advanceSearch. | Sep. 21, 2020 | 125144
Sarasota | Unincorporated areas of Sarasota (20-04-2329P). | The Honorable Charles D. Hines, Chairman, Sarasota County Board of Commissioners, 1660 Ringling Boulevard, Sarasota, FL 34236. | Sarasota County Planning and Development Services Department, 1001 Sarasota Center Boulevard, Sarasota, FL 34240. | https://msc.fema.gov/portal/advanceSearch. | Oct. 13, 2020 | 125144
Sumter | Unincorporated areas of Sumter County (20-04-1391P). | The Honorable Steve Printz, Chairman, Sumter County Board of Commissioners, 7375 Powell Road, Wildwood, FL 34785. | Sumter County Development Department, 7375 Powell Road, Wildwood, FL 34785. | https://msc.fema.gov/portal/advanceSearch. | Sep. 25, 2020 | 120296
Georgia:
Chatham | City of Savannah (19-04-5445P). | The Honorable Eddie Deloach, Mayor, City of Savannah, P.O. Box 1027, Savannah, GA 31402. | Development Services Department, 5515 Abercorn Street, Savannah, GA 31405. | https://msc.fema.gov/portal/advanceSearch. | Oct. 13, 2020 | 135163
Richmond | City of Augusta (19-04-6591P). | The Honorable Hardie Davis, Jr., Mayor, City of Augusta, 535 Telfair Street, Suite 200, Augusta, GA 30901. | Planning and Development Department, 535 Telfair Street, Suite 300, Augusta, GA 30901. | https://msc.fema.gov/portal/advanceSearch. | Sep. 25, 2020 | 130158
New Mexico:
Bernalillo | City of Albuquerque (19-06-3069P). | The Honorable Timothy M. Keller, Mayor, City of Albuquerque, P.O. Box 1293, Albuquerque, NM 87103. | Development Review Services Division, 600 2nd Street Northwest, Suite 201, Albuquerque, NM 87102. | https://msc.fema.gov/portal/advanceSearch. | Sep. 21, 2020 | 350002
Bernalillo | Unincorporated areas of Bernalillo County (19-06-3069P). | Ms. Julie Morgas Baca, Bernalillo County Manager, 1 Civic Plaza Northwest, 10th Floor, Albuquerque, NM 87102. | Bernalillo County Public Works Division, 2400 Broadway Boulevard Southeast, Albuquerque, NM 87102. | https://msc.fema.gov/portal/advanceSearch. | Sep. 21, 2020 | 350001
South Carolina: Charleston. | City of Isle of Palms (20-04-2088P). | The Honorable Jimmy Carroll, Mayor, City of Isle of Palms, 1207 Palm Boulevard, Isle of Palms, SC 29451. | Building and Planning Department, 1207 Palm Boulevard, Isle of Palms, SC 29451. | https://msc.fema.gov/portal/advanceSearch. | Sep. 28, 2020 | 455416
Texas:
Bastrop | City of Bastrop (20-06-1063P). | The Honorable Connie Schroeder, Mayor, City of Bastrop, P.O. Box 427, Bastrop, TX 78602. | City Hall, 1311 Chestnut Street, Bastrop, TX 78602. | https://msc.fema.gov/portal/advanceSearch. | Sep. 21, 2020 | 480022
Bastrop | Unincorporated areas of Bastrop County (20-06-1063P). | The Honorable Paul Pape, Bastrop County Judge, 804 Pecan Street, Bastrop, TX 78602. | Bastrop County Engineering and Development Department, 211 Jackson Street, Bastrop, TX 78602. | https://msc.fema.gov/portal/advanceSearch. | Sep. 21, 2020 | 481193
Chambers | City of Cove (19-06-3771P). | The Honorable Leroy Stevens, Mayor, City of Cove, 7911 Cove Loop Road, Cove, TX 77523. | Chambers County Road and Bridge Department, 201 Airport Road, Anahuac, TX 77514. | https://msc.fema.gov/portal/advanceSearch. | Oct. 2, 2020 | 481510
Chambers | City of Mont Belvieu (19-06-3771P). | The Honorable Nick Dixon, Mayor, City of Mont Belvieu, P.O. Box 1048, Mont Belvieu, TX 77580. | City Hall, 11607 Eagle Drive, Mont Belvieu, TX 77580. | https://msc.fema.gov/portal/advanceSearch. | Oct. 2, 2020 | 480122
Chambers | Unincorporated areas of Chambers County (19-06-3771P). | The Honorable Jimmy Sylvia, Chambers County Judge, P.O. Box 939, Anahuac, TX 77514. | Chambers County Road and Bridge Department, 201 Airport Road, Anahuac, TX 77514. | https://msc.fema.gov/portal/advanceSearch. | Oct. 2, 2020 | 480119
Comal | City of New Braunfels (20-06-1144P). | The Honorable Barron Casteel, Mayor, City of New Braunfels, 550 Landa Street, New Braunfels, TX 78130. | City Hall, 550 Landa Street, New Braunfels, TX 78130. | https://msc.fema.gov/portal/advanceSearch. | Sep. 30, 2020 | 485493
Dallas | City of Carrollton (19-06-3556P). | Ms. Erin Rinehart, Manager, City of Carrollton, 1945 East Jackson Road, Carrollton, TX 75006. | Engineering Department, 1945 East Jackson Road, Carrollton, TX 75006. | https://msc.fema.gov/portal/advanceSearch. | Sep. 28, 2020 | 480167
Denton | City of The Colony (19-06-3392P). | Mr. Troy Powell, Manager, City of The Colony, 6800 Main Street, The Colony, TX 75056. | Engineering Department, 6800 Main Street, The Colony, TX 75056. | https://msc.fema.gov/portal/advanceSearch. | Sep. 21, 2020 | 481581
Denton | City of Roanoke (19-06-2882P). | The Honorable Scooter Gierisch, Jr., Mayor, City of Roanoke, 500 South Oak Street, Roanoke, TX 76262. | City Hall, 500 South Oak Street, Roanoke, TX 76262. | https://msc.fema.gov/portal/advanceSearch. | Oct. 14, 2020 | 480785
Ellis | City of Ennis (20-06-2306P). | The Honorable Angeline Juenemann, Mayor, City of Ennis, P.O. Box 220, Ennis, TX 75120. | Inspection Services Department, 108 West Knox Street, Ennis, TX 75119. | https://msc.fema.gov/portal/advanceSearch. | Oct. 5, 2020 | 480207
Ellis | City of Red Oak (20-06-0057P). | Mr. Todd Fuller, Manager, City of Red Oak, 200 Lakeview Parkway, Red Oak, TX 75154. | Engineering and Community Development Department, 411 West Red Oak Road, Red Oak, TX 75154. | https://msc.fema.gov/portal/advanceSearch. | Sep. 24, 2020 | 481650
Ellis | Unincorporated areas of Ellis County (20-06-0057P). | The Honorable Todd Little, Ellis County Judge, 101 West Main Street, Waxahachie, TX 75165. | Ellis County Engineering Department, 109 South Jackson Street, Waxahachie, TX 75165. | https://msc.fema.gov/portal/advanceSearch. | Sep. 24, 2020 | 480798
Ellis | Unincorporated areas of Ellis County (20-06-2306P). | The Honorable Todd Little, Ellis County Judge, 101 West Main Street, Waxahachie, TX 75165. | Ellis County Engineering Department, 109 South Jackson Street, Waxahachie, TX 75165. | https://msc.fema.gov/portal/advanceSearch. | Oct. 5, 2020 | 480798
Tarrant | City of Euless (20-06-0048P). | The Honorable Linda Martin, Mayor, City of Euless, 201 North Ector Drive, Euless, TX 76039. | Planning and Engineering Department, 201 North Ector Drive, Euless, TX 76039. | https://msc.fema.gov/portal/advanceSearch. | Sep. 24, 2020 | 480593
Tarrant | City of Grapevine (19-06-3994P). | The Honorable William D. Tate, Mayor, City of Grapevine, P.O. Box 95104, Grapevine, TX 76099. | City Hall, 200 South Main Street, Grapevine, TX 76051. | https://msc.fema.gov/portal/advanceSearch. | Sep. 28, 2020 | 480598

[FR Doc. 2020-14891 Filed 7-9-12; 8:45 am]

BILLING CODE 9110-12-P